DEPARTMENT OF ENERGY

Federal Energy Regulatory Commission

Combined Notice of Filings

Take notice that the Commission has received the following Natural Gas Pipeline Rate and Refund Report filings:

Filings Instituting Proceedings

Docket Number: PR19-38-000.

Applicants: Interstate Power and Light Company.

Description: Tariff filing per 284.123(b),(e)/: SOC 2019 to be effective 2/14/2019.

Filed Date: 2/14/19.

Accession Number: 201902145031.

Comments/Protests Due: 5 p.m. ET 3/7/19.

Docket Number: PR19-39-000.

Applicants: Public Service Company of Colorado.

Description: Tariff filing per 284.123(b),(e)+(g): 2.15.19 SOR Update to be effective 1/1/2019.

Filed Date: 2/12/19.

Accession Number: 20190215-5109.

Comments Due: 5 p.m. ET 3/8/19.

284.123(g) Protests Due: 5 p.m. ET 4/16/19.

Docket Number: PR19-40-000.

Applicants: Cranberry Pipeline Corporation.

Description: Tariff filing per 284.123(b)(2)+(g): Application for Rate Approval to be effective 2/19/2019.

Filed Date: 2/19/19.

Accession Number: 201902195172.

Comments Due: 5 p.m. ET 3/12/19.

284.123(g) Protests Due: 5 p.m. ET 4/22/19.

Docket Numbers: RP19-658-000.

Applicants: Iroquois Gas Transmission System, L.P.

Description: § 4(d) Rate Filing: 021419 Negotiated Rates—Mercuria Energy America, Inc. R-7540-02 to be effective 3/1/2019.

Filed Date: 2/14/19.

Accession Number: 20190214-5016.

Comments Due: 5 p.m. ET 2/26/19.

Docket Numbers: RP19-659-000.

Applicants: Black Marlin Pipeline LLC.

Description: Compliance filing Petition for Temporary Exemption from Tariff Revision Filing—Order 587-Y.

Filed Date: 2/14/19.

Accession Number: 20190214-5034.

Comments Due: 5 p.m. ET 2/26/19.

Docket Numbers: RP19-660-000.

Applicants: Gas Transmission Northwest LLC.

Description: § 4(d) Rate Filing: Forward Haul Definitional Change to be effective 3/18/2019.

Filed Date: 2/14/19.

Accession Number: 20190214-5122.

Comments Due: 5 p.m. ET 2/26/19.

Docket Numbers: RP19-661-000.

Applicants: Northern Natural Gas Company.

Description: Northern Natural Gas submits report of the penalty and daily delivery variance charge (DDVC) revenues that have been credited to shippers.

Filed Date: 2/13/19.

Accession Number: 20190213-5185.

Comments Due: 5 p.m. ET 2/25/19.

Docket Numbers: RP19-662-000.

Applicants: Pine Prairie Energy Center, LLC.

Description: § 4(d) Rate Filing: Pine Prairie Energy Center, LLC—Revisions to FERC Gas Tariff to be effective 3/18/2019.

Filed Date: 2/15/19.

Accession Number: 20190215-5039.

Comments Due: 5 p.m. ET 2/27/19.

Docket Numbers: RP19-663-000.

Applicants: Rockies Express Pipeline LLC.

Description: § 4(d) Rate Filing: Neg Rate 2019-02-15 BHS (4) to be effective 2/16/2019.

Filed Date: 2/15/19.

Accession Number: 20190215-5117.

Comments Due: 5 p.m. ET 2/27/19.

Docket Numbers: RP19-664-000.

Applicants: Gulf South Pipeline Company, LP.

Description: § 4(d) Rate Filing: 2018 Fuel Tracker Filing—Petal to be effective 4/1/2019.

Filed Date: 2/15/19.

Accession Number: 20190215-5119.

Comments Due: 5 p.m. ET 2/27/19.

Docket Numbers: RP19-665-000.

Applicants: Encana Marketing (USA) Inc., Newfield Exploration Mid-Continent, Inc.

Description: Joint Petition for Temporary Waivers of Capacity Release Regulations and Policies, et al. of Encana Marketing (USA) Inc., et al. under RP19-665.

Filed Date: 2/15/19.

Accession Number: 20190215-5178.

Comments Due: 5 p.m. ET 2/25/19.

Docket Numbers: RP19-620-001.

Applicants: Texas Gas Transmission, LLC.

Description: Tariff Amendment: Amendment to Filing in Docket No. RP19-620-000 to be effective 2/1/2019.

Filed Date: 2/19/19.

Accession Number: 20190219-5124.

Comments Due: 5 p.m. ET 3/4/19.

Docket Numbers: RP19-666-000.

Applicants: National Fuel Gas Supply Corporation.

Description: § 4(d) Rate Filing: GT&C 10.6 and Housekeeping Changes to be effective 3/21/2019.

Filed Date: 2/19/19.

Accession Number: 20190219-5014.

Comments Due: 5 p.m. ET 3/4/19.

Docket Numbers: RP19-667-000.

Applicants: Algonquin Gas Transmission, LLC.

Description: § 4(d) Rate Filing: Negotiated Rate—Norwich release to Direct Energy 798673 eff 3/1/19 to be effective 3/1/2019.

Filed Date: 2/19/19.

Accession Number: 20190219-5052.

Comments Due: 5 p.m. ET 3/4/19.

Docket Numbers: RP19-668-000.

Applicants: WestGas InterState, Inc.

Description: § 4(d) Rate Filing: 20190219_CoverLetter to be effective 2/20/2019.

Filed Date: 2/19/19.

Accession Number: 20190219-5092.

Comments Due: 5 p.m. ET 3/4/19.

Docket Numbers: RP19-669-000.

Applicants: National Fuel Gas Supply Corporation.

Description: § 4(d) Rate Filing: Fuel Tracker under GT&C 41 (Supply) to be effective 4/1/2019.

Filed Date: 2/19/19.

Accession Number: 20190219-5103.

Comments Due: 5 p.m. ET 3/4/19.

Docket Numbers: RP19-670-000.

Applicants: Empire Pipeline, Inc.

Description: § 4(d) Rate Filing: Fuel Tracker under GT&C 23.6 (Empire) to be effective 4/1/2019.

Filed Date: 2/19/19.

Accession Number: 20190219-5108.

Comments Due: 5 p.m. ET 3/4/19.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified date(s). Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: February 21, 2019.
Nathaniel J. Davis, Sr.,
Deputy Secretary.

[FR Doc. 2019-03398 Filed 2-26-19; 8:45 am]

BILLING CODE 6717-01-P